DEPARTMENT OF DEFENSE

Department of the Navy

Notice of Intent To Grant Partially Exclusive Patent License; Vann Technology, LLC

AGENCY: Department of the Navy, DoD.

ACTION: Notice.

SUMMARY: The invention listed below is assigned to the United States Government as represented by the Secretary of the Navy. The Department of the Navy hereby gives notice of its intent to grant to Vann Technology, LLC. a revocable, nonassignable, exclusive license to practice in the United States, the Government-owned invention described below: U.S. Patent 6,902,316 (Navy Case 85003): Issued June 7, 2005, entitled “NON-INVASIVE CORROSION SENSOR”.

DATES: Anyone wishing to object to the grant of this license must file written objections along with supporting evidence, if any, not later than January 26, 2015.

ADDRESSES: Written objections are to be filed with Naval Surface Warfare Center, Crane Division, Code OOL, Bldg 2, 300 Highway 361, Crane, IN 47522-5001.

FOR FURTHER INFORMATION CONTACT: Mr. Christopher Monsey, Naval Surface Warfare Center, Crane Division, Code OOL, Bldg 2, 300 Highway 361, Crane, IN 47522-5001, telephone 812-854-4100.

Authority: 35 U.S.C. 207, 37 CFR part 404

Dated: December 29, 2014.
N.A. Hagerty-Ford,
Commander, Judge Advocate General's Corps, U.S. Navy, Federal Register Liaison Officer.

[FR Doc. 2015-00012 Filed 1-6-15; 8:45 am]

BILLING CODE 3810-FF-P